DEPARTMENT OF ENERGY

Federal Energy Regulatory Commission

[Docket No. PR05-19-000]

Unocal Keystone Gas Storage, LLC; Notice of Petition for Rate Approval

August 22, 2005.

Take notice that on August 10, 2005, Unocal Keystone Gas Storage, LLC (Keystone) tendered for filing, pursuant to § 284.123 of the Commission's regulations, revisions to its Operating Statement with a September 1, 2005 effective date. Keystone states that the proposed revisions serve to clarify the operating provisions and do not propose any new services or new rates. Keystone further requests a waiver of the “shipper must have title” policy for off-system capacity it may acquire to provide interstate storage services. Keystone also states that it will not implement its proposal to hold capacity on interconnected pipelines prior to Commission approval.

Pursuant to § 284.123(b)(2)(ii), if the Commission does not act within 150 days of the date of this filing, the rates will be deemed to be fair and equitable and not in excess of an amount which interstate pipelines would be permitted to charge for similar transportation service. The Commission may, prior to the expiration of the 150 day period, extend the time for action or institute a proceeding to afford parties an opportunity for written comments and for the oral presentation of views, data, and arguments.

Any person desiring to participate in this rate filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, on or before the date as indicated below. Anyone filing an intervention or protest must serve a copy of that document on the Applicant. Anyone filing an intervention or protest on or before the intervention or protest date need not serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible online at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on August 31, 2005.

Linda Mitry,
Deputy Secretary.

[FR Doc. E5-4698 Filed 8-25-05; 8:45 am]

BILLING CODE 6717-01-P